DEPARTMENT OF TRANSPORTATION

National Highway Traffic Safety Administration

[Docket No. NHTSA-2010-0152]

Technical Report on Fatality Risk, Mass, and Footprint of Model Year 2000-2007 Passenger Cars and LTVs

AGENCY: National Highway Traffic Safety Administration (NHTSA), Department of Transportation.

ACTION: Request for comments on technical report.

SUMMARY: This notice announces NHTSA's publication of a technical report describing relationships between a vehicle's mass, footprint (size), and body type and its rate of involvement in fatal crashes. The report's title is: Relationships Between Fatality Risk, Mass, and Footprint in Model Year 2000-2007 Passenger Cars and LTVs—Final Report.

DATES: Comments must be received no later than January 15, 2013.

ADDRESSES: Report: The technical report is available on the Internet for viewing in PDF format at http://www-nrd.nhtsa.dot.gov/Pubs/811665.pdf. You may obtain a copy of the report free of charge by sending a self-addressed mailing label to Charles J. Kahane (NVS-431), National Highway Traffic Safety Administration, Room W53-312, 1200 New Jersey Avenue SE., Washington, DC 20590.

Comments: You may submit comments [identified by Docket Number NHTSA-2010-0152] by any of the following methods:

• Federal eRulemaking Portal: Go to http://www.regulations.gov. Follow the online instructions for submitting comments.

• Fax: 1-202-493-2251.

• Mail: Docket Management Facility, M-30, U.S. Department of Transportation, West Building, Ground Floor, Rm. W12-140, 1200 New Jersey Avenue SE., Washington, DC 20590.

• Hand Delivery: West Building Ground Floor, Room W12-140, 1200 New Jersey Avenue SE., between 9 a.m. and 5 p.m. Eastern Time, Monday through Friday, except Federal holidays.

You may call Docket Management at 202-366-9826.

Instructions: For detailed instructions on submitting comments, see the Procedural Matters section of this document. Note that all comments received will be posted without change to http://www.regulations.gov, including any personal information provided.

FOR FURTHER INFORMATION CONTACT: Charles J. Kahane, Chief, Evaluation Division, NVS-431, National Center for Statistics and Analysis, National Highway Traffic Safety Administration, Room W53-312, 1200 New Jersey Avenue SE., Washington, DC 20590. Telephone: 202-366-2560. Email: chuck.kahane@dot.gov.

SUPPLEMENTARY INFORMATION: Mass reduction while holding a vehicle's footprint (size) constant is a potential strategy for meeting footprint-based CAFE and GHG standards. An important corollary issue is the possible effect of mass reduction that maintains footprint on fatal crashes. One way to estimate these effects is statistical analyses of societal fatality rates per VMT, by vehicles' mass and footprint, for the current on-road vehicle fleet. Societal fatality rates include occupants of all vehicles in the crash as well as pedestrians. The analyses comprised MY 2000-2007 cars and LTVs in CY 2002-2008 crashes. Fatality rates were derived from FARS data, 13 State crash files, and registration and mileage data from R.L. Polk. The table presents the estimated percent increase in societal fatality rates per 100-pound mass reduction while holding footprint constant for five classes of vehicles:

MY 2000-2007 CY 2002-2008 | Fatality increase (%) per 100-pound mass reduction while holding footprint constant: Point estimate | 95% confidence bounds
Cars < 3,106 pounds | 1.56 | + .39 to +2.73
Cars ≥ 3,106 pounds | .51 | − .59 to +1.60
CUVs and minivans | − .37 | −1.55 to + .81
Truck-based LTVs < 4,594 pounds | .52 | − .45 to +1.48
Truck-based LTVs ≥ 4,594 pounds | − .34 | − .97 to + .30

Only the 1.56 percent risk increase in the lighter cars is statistically significant. There are non-significant increases in the heavier cars and the lighter truck-based LTVs and non-significant societal benefits for mass reduction in CUVs, minivans, and the heavier truck-based LTVs. Based on these results, potential combinations of mass reductions that maintain footprint and are proportionately somewhat higher for the heavier vehicles may be safety-neutral or better as point estimates and, in any case, unlikely to significantly increase fatalities. The primarily non-significant results are not due to a paucity of data, but because the societal effect of mass reduction while maintaining footprint, if any, is small.

This report is also available in two NHTSA dockets—NHTSA-2010-0152-0040 and NHTSA-2010-0131-0336—as well as at http://www-nrd.nhtsa.dot.gov/Pubs/811665.pdf. This final report updates and supersedes a preliminary report issued in November 2011 (76 FR 73008, report available at NHTSA-2010-0152-0023), in response to public comments and to three researchers' peer-reviews of the preliminary report. Information about the public comments and the peer review is available in Docket No. NHTSA-2010-0152, including the peer-review charge at NHTSA-2010-0152-0024, the names of the reviewers at NHTSA-2010-0152-0025, and the three reviews at NHTSA-2010-0152-0035, NHTSA-2010-0152-0036, and NHTSA-2010-0152-0037.

This report also supersedes earlier NHTSA reports on vehicle mass, size and fatality risk issued in 2010 (75 FR 25324, Docket No. NHTSA-2010-0152, report available at http://www.nhtsa.gov/staticfiles/rulemaking/pdf/cafe/CAFE_2012-2016_FRIA_04012010.pdf, pp. 464-542); 2003 (68 FR 66153, Docket No. NHTSA-2003-16318, report available at http://www-nrd.nhtsa.dot.gov/Pubs/809662.PDF); and 1997 (62 FR 34491, Docket No. NHTSA-1997-3725, report available at http://www-nrd.nhtsa.dot.gov/Pubs/808570.PDF).

Procedural Matters

How can I influence NHTSA's thinking on this subject?

NHTSA welcomes public review of the technical report. NHTSA will submit to the Docket a response to the comments and, if appropriate, will supplement or revise the report.

How do I prepare and submit comments?

Your comments must be written and in English. To ensure that your comments are correctly filed in the Docket, please include the Docket number of this document (NHTSA-2010-0152) in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://regulations.gov.

Please send two paper copies of your comments to Docket Management, fax them, or use the Federal eRulemaking Portal. The mailing address is U. S. Department of Transportation, Docket Management Facility, M-30, West Building, Ground Floor, Rm. W12-140, 1200 New Jersey Avenue SE., Washington, DC 20590. The fax number is 1-202-493-2251. To use the Federal eRulemaking Portal, go to http://www.regulations.gov and follow the online instructions for submitting comments.

We also request, but do not require you to send a copy to Charles J. Kahane, Chief, Evaluation Division, NVS-431, National Highway Traffic Safety Administration, Room W53-312, 1200 New Jersey Avenue SE., Washington, DC 20590 (or email them to chuck.kahane@dot.gov). He can check if your comments have been received at the Docket and he can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Avenue SE, Washington, DC 20590. Include a cover letter supplying the information specified in our confidential business information regulation (49 CFR Part 512).

In addition, send two copies from which you have deleted the claimed confidential business information to U. S. Department of Transportation, Docket Management Facility, M-30, West Building, Ground Floor, Rm. W12-140, 1200 New Jersey Avenue SE., Washington, DC 20590, or submit them via the Federal eRulemaking Portal.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Authority: 49 U.S.C. 30111, 30168; delegation of authority at 49 CFR 1.50 and 501.8.

James F. Simons,
Director, Office of Regulatory Analysis and Evaluation.

[FR Doc. 2012-22779 Filed 9-14-12; 8:45 am]

BILLING CODE 4910-59-P